DEPARTMENT OF THE INTERIOR

Fish and Wildlife Service

[FWS-HQ-ES-2015-N143; FXES1112090000-134-FF09E31000]

Information Collection Request Sent to the Office of Management and Budget (OMB) for Approval; Survey of U.S. Fish and Wildlife Service Habitat Conservation Bank Sponsors and Managers

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. We may not conduct or sponsor and you are not required to respond to a collection of information unless it displays a currently valid OMB control number.

DATES: You must submit comments on or before August 24, 2015.

ADDRESSES: Send your comments and suggestions on this information collection to the Desk Officer for the Department of the Interior at OMB-OIRA at (202) 395-5806 (fax) or OIRA_Submission@omb.eop.gov (email). Please provide a copy of your comments to the Information Collection Clearance Officer, U.S. Fish and Wildlife Service, MS BPHC, 5275 Leesburg Pike, Falls Church, VA 22041-3803 (mail), or hope_grey@fws.gov (email). Please include “1018-Conservation Banking Survey” in the subject line of your comments.

FOR FURTHER INFORMATION CONTACT: To request additional information about this ICR, contact Hope Grey at hope_grey@fws.gov (email) or 703-358-2482 (telephone). You may review the ICR online at http://www.reginfo.gov. Follow the instructions to review Department of the Interior collections under review by OMB.

SUPPLEMENTARY INFORMATION:

Information Collection Request

OMB Control Number: 1018—XXXX.

Title: Survey of U.S. Fish and Wildlife Service Habitat Conservation Bank Sponsors and Managers.

Service Form Number: None.

Type of Request: Request for a new OMB control number.

Description of Respondents: Sponsors and managers of conservation banks.

Respondent's Obligation: Voluntary.

Frequency of Collection: One time.

Activity | Number of responses | Completion time per response | Total annual burden hours
Initial Contact | 85 | 5 minutes | 7
Initial Invitation Email | 186 | 2 minutes | 6
Complete Survey 1 | 72 | 10 minutes | 12
Complete Survey 2 | 86 | 15 minutes | 22
Reminder 1 | 102 | 1 minute | 2
Reminder 2 | 56 | 1 minute | 1
Totals | 587 |  | 50

Estimated Annual Nonhour Burden Cost: None.

Abstract: Conservation banks are permanently protected lands that contain natural resource values, which are conserved and permanently managed for species that are endangered or threatened, candidates for listing as endangered or threatened, or are otherwise species at risk. The habitat preserved, restored, or established in conservation banks is used to offset adverse impacts to species that occurred elsewhere. We approve habitat or species credits that bank owners may sell in exchange for permanently protecting and managing habitat for these species. We began approving conservation banks in the early 1990s, and 132 banks have been approved as of January 2015 (including approved and sold-out banks).

The Service and the Department of the Interior's Office of Policy Analysis are conducting an analysis to identify potential institutional or other impediments to the habitat conservation banking program, and develop possible options for encouraging expanded use of the program. We plan to survey conservation bank sponsors and managers. The surveys will benefit the Service by helping to identify constraints in the current conservation banking program, and thus provide important information for developing recommendations for further expansion or perhaps changes to the program.

We will survey leaders and managers from the entire sample of entities sponsoring conservation banks. Two surveys will be used to obtain information from a corporate or organizational point of view, as well as information about the operation of individual banks. We plan to collect:

(1) Background information on the bank(s).

(2) Information about experience with the conservation banking program.

(3) Perceptions of technical and institutional obstacles encountered in the conservation banking program.

(4) Perceptions of incentives that would help foster successful banks.

Comments Received and Our Responses

Comments: On May 15, 2013, we published in the Federal Register (78 FR 28619) a notice of our intent to request that OMB approve this information collection. In that notice, we solicited comments for 60 days, ending on July 15, 2013. We received one comment in response to that notice. The commenter objected to the survey, but did not address the information collection requirements. We did not make any changes to the survey.

Request for Public Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: July 15, 2015.
Tina A. Campbell,
Chief, Division of Policy, Performance, and Management Programs, U.S. Fish and Wildlife Service.

[FR Doc. 2015-18080 Filed 7-23-15; 8:45 am]

BILLING CODE 4310-55-P